LEGAL SERVICES CORPORATION

Sunshine Act Meeting of the Board of Directors Operations & Regulations Committee

TIME AND DATE: The Operations and Regulations Committee of the Legal Services Corporation Board of Directors will meet on June 25, 2000. The meeting will begin at 2:30 p.m. and continue until the Committee concludes its agenda.

LOCATION: Radisson Plaza Hotel Minneapolis, 35 South 7th Street, Minneapolis, MN 55402.

STATUS OF MEETING: Open.

MATTERS TO BE CONSIDERED:

1. Approval of agenda.

2. Staff report on the status of revisions to 45 C.F.R. Part 1628 (Recipient Fund Balances), 45 C.F.R. Part 1635 (Timekeeping Requirement) and the proposed Property Acquisition, Management and Disposition Manual of LSC Grantees.

3. Consider and act on proposed rulemaking protocol for recommendation to the full Board.

4. Consider and act on other business.

5. Public comment.

CONTACT PERSON FOR INFORMATION: Victor M. Fortuno, Vice President for Legal Affairs, General Counsel, and Corporate Secretary, at (202) 336-8800.

SPECIAL NEEDS: Upon request, meeting notices will be made available in alternate formats to accommodate visual and hearing impairments. Individuals who have a disability and need an accommodation to attend the meeting may notify Shannon Nicko Adaway, at (202) 336-8800.

Dated: June 15, 2000.
Victor M. Fortuno,
Vice President for Legal Affairs, General Counsel, and Corporate Secretary.

[FR Doc. 00-15710 Filed 6-16-00; 3:35 pm]

BILLING CODE 7050-01-P